DEPARTMENT OF TRANSPORTATION

Federal Aviation Administration

14 CFR Part 39

[Docket No. FAA-2004-19866; Directorate Identifier 2004-NM-25-AD]

RIN 2120-AA64

Airworthiness Directives; Boeing Model 767-200, -300, and -300F Series Airplanes

AGENCY: Federal Aviation Administration (FAA), Department of Transportation (DOT).

ACTION: Supplemental notice of proposed rulemaking (NPRM); reopening of comment period.

SUMMARY: The FAA is revising an earlier proposed airworthiness directive (AD) for certain Boeing Model 767-200, -300, and -300F series airplanes. The original NPRM would have required verifying the part and serial numbers of certain main landing gear (MLG) bogie beam pivot pins; replacing those pivot pins with new or overhauled pivot pins if necessary; and ultimately replacing all pivot pins with new, improved pivot pins. The original NPRM was prompted by reports indicating that numerous fractures of the MLG bogie beam pivot pin have been found and that some pivot pins may have had improper rework during manufacture. This action revises the original NPRM by adding new inspections; revising the inspection thresholds and repetitive intervals; and revising the compliance time for replacing all pivot pins with new-material pins. We are proposing this supplemental NPRM to prevent fracture of the MLG bogie beam pivot pin, which could lead to possible loss of the MLG truck during takeoff or landing and consequent loss of control of the airplane.

DATES: We must receive comments on this supplemental NPRM by December 5, 2005.

ADDRESSES: Use one of the following addresses to submit comments on this supplemental NPRM.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street SW., room PL-401, on the plaza level of the Nassif Building, Washington, DC. This docket number is FAA-2004-19866; the directorate identifier for this docket is 2004-NM-25-AD.

FOR FURTHER INFORMATION CONTACT: Candice Gerretsen, Aerospace Engineer, Airframe Branch, ANM-120S, FAA, Seattle Aircraft Certification Office, 1601 Lind Avenue, SW., Renton, Washington 98055-4056; telephone (425) 917-6428; fax (425) 917-6590.

SUPPLEMENTARY INFORMATION:

Comments Invited

We invite you to submit any relevant written data, views, or arguments regarding this supplemental NPRM. Send your comments to an address listed under ADDRESSES. Include “Docket No. FAA-2004-19866; Directorate Identifier 2004-NM-25-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level in the Nassif Building at the DOT street address stated in ADDRESSES. Comments will be available in the AD docket shortly after the Docket Management System (DMS) receives them.

Discussion

We proposed to amend 14 CFR part 39 with a notice of proposed rulemaking (NPRM) for an AD (the “original NPRM”) for certain Boeing Model 767-200, -300, and -300F series airplanes. The original NPRM was published in the Federal Register on December 16, 2004 (69 FR 75270). The original NPRM proposed to require verifying the part and serial numbers of certain main landing gear (MLG) bogie beam pivot pins; replacing those pivot pins with new or overhauled pivot pins if necessary; and ultimately replacing all pivot pins with new, improved pivot pins.

Actions Since Original NPRM Was Issued

Since we issued the original NPRM, the manufacturer notified us that the parts necessary to accomplish the terminating action are not available in quantities that are sufficient for operators to accomplish the action within the proposed compliance time. In addition, the number of pivot pin failures has increased. This increase in failures combined with the limited availability of parts for the terminating action caused the manufacturer to develop new inspection methods that provide an acceptable level of safety until the necessary parts can be obtained for the terminating action. These new inspection methods are provided in Boeing Alert Service Bulletin, 767-32A0199, Revision 2, dated May 26, 2005, which is described below. The manufacturer has assured us that it will be able to meet the new replacement schedule specified in this supplemental NPRM.

Relevant Service Information

We have reviewed Boeing Alert Service Bulletin 767-32A0199, Revision 2, dated May 26, 2005 (Revision 1, dated July 22, 2004, was cited as the acceptable source of service information for certain actions in the original NPRM). This service bulletin describes procedures for doing repetitive lubrications of the old-material MLG bogie beam pivot pins. The service bulletin also describes procedures for doing repetitive inspections of the old-material pins according to one or more of the following three options, as applicable. The compliance time for doing the first inspection is before the pivot pin is 24 or 48 months old since the pivot pin was new or last overhauled, or within 12 months after the Revision 2 release date of the service bulletin, whichever is later.

Repetitive inspection option 1: Measure the length of the installed pivot pin to make sure it is not fractured. If the length of the pin exceeds the maximum shown in Figure 1 of the service bulletin, the service bulletin states that the pin may be fractured and gives procedures for doing the related investigative and corrective actions in repetitive inspection option 3. The service bulletin specifies that this measurement should be repeated one time per day.

Repetitive inspection option 2: Do an ultrasonic inspection of the installed pin for cracks. If any crack is found during this inspection, the service bulletin gives procedures for doing the related investigative and corrective actions in repetitive inspection option 3. The service bulletin specifies that this inspection should be repeated every 45 or 90 days, depending on the configuration group to which the airplane belongs.

Repetitive inspection option 3: Do detailed inspections with the pivot pin removed. The first detailed inspection is of the outer diameter of the pivot pin for bronze transfer, cracks, corrosion, and damage to the chrome plate. If a crack is found in the pivot pin, or if the pivot pin outer diameter has bronze transfer or damage to the chrome plate, the service bulletin gives procedures for the corrective action of replacing the pin with a serviceable old-material pin or with a new-material pin before further flight. Replacing the pin with a new-material pin is terminating action for the remaining detailed inspections. The second detailed inspection is of the bogie beam pivot bushings for discrepancies such as damage, migration, rotation, or corrosion around the flange. If there is no discrepancy, the service bulletin states that no further inspection is necessary until the next repetitive inspection. If there is a discrepancy, the service bulletin gives procedures for corrective actions and related investigative actions, and specifies that operators do the third detailed inspection. The third detailed inspection is of the inner cylinder pivot bushings for discrepancies such as damage, migration, rotation, cracks, or corrosion around the flange. If there is no discrepancy, the service bulletin states that no further inspection is necessary until the next repetitive inspection. If there is a discrepancy, the service bulletin gives procedures for related investigative and corrective actions. The corrective actions and related investigative actions include further detailed inspections, eddy current inspections, etch inspections, and dye penetrant inspections, as applicable, for cracks, corrosion and other damage as applicable; and contacting Boeing for repair instructions. The service bulletin specifies that this inspection should be repeated every 24 or 48 months.

The alert service bulletin also gives procedures for replacing the pivot pin with a new-material pin. This replacement terminates the repetitive lubrications and repetitive inspections for the replaced pivot pin. The replacement involves, first, the related investigative actions of doing a detailed inspection of the pivot bushings and the pivot bushing on each lug of the MLG inner cylinder for discrepancies such as damage, migration, rotation, corrosion, and the bushing inner diameters, and corrective actions and related investigative actions, if necessary, before doing the replacement. Also, before installing the new-material pivot pin, the service bulletin gives procedures for cleaning pivot joint bushings that have not been previously replaced during the repetitive inspections, and applying new, specified, grease at the pivot joint lubrication fittings on the bogie beam and inner cylinder; applying the specified grease by hand to the entire inner diameter of each of the pivot bushings on the bogie beam inner cylinder and the outer cylinder of the pivot pin. After the new-material pivot pin is installed, the service bulletin specifies that operators should lubricate the MLG pivot pins and the truck assemblies with the specified grease.

Accomplishing the actions specified in the service information is intended to adequately address the unsafe condition.

Comments

We have considered the following comments on the original NPRM.

Support for the Proposed Rule

Three commenters express support for the original NPRM. One of the commenters, the airplane manufacturer, states that it agrees with combining the actions in Boeing Alert Service Bulletins 767-32A0199, Revision 1, dated July 22, 2004, and 767-32A0202, dated July 22, 2004. The commenter states that releasing one AD to address the actions in both service bulletins benefits the operators of the 767 fleet because it will simplify logistics and reduce labor costs. The commenter further states that the number of suspect pins listed in Boeing Alert Service Bulletin 767-32A0202 is very small (less then 20) when compared with the larger population of pins that will eventually need to be replaced.

Request To Separate Actions in Two Service Bulletins

Another commenter, an airplane operator, states that the conditions addressed by Boeing Alert Service Bulletins 767-32A0199 and 767-32A0202 are unrelated and should not be combined in the same AD. The commenter maintains that the two service bulletins address very separate, unrelated problems written against the same part: Potential manufacturing irregularities in Boeing Alert Service Bulletin 767-32A0202, and the availability of a new-material part in Boeing Alert Service Bulletin 767-32A0199. The commenter asserts that if the data had supported that manufacturing irregularities affected part performance, it would support mandating Boeing Alert Service Bulletin 767-32A0202, but that Boeing Alert Service Bulletin 767-32A0199 is unrelated and should not be mandated. The commenter summarizes that the original NPRM lacks clarity regarding what unsafe condition the FAA is attempting to correct, and requests that the FAA either retract the original NPRM, or supersede with a new NPRM that addresses, clearly and concisely, the FAA's concern.

We disagree with the commenter. Inspections and replacements that satisfy certain requirements of both bulletins can be performed at the same time. As stated by the previous commenter, combining the actions from these two service bulletins benefits the operators of the 767 fleet because it will simplify logistics and reduce labor costs. We agree with the commenter that Boeing Alert Service Bulletin 767-32A0202 addresses a quality assurance problem with certain pivot pins, and Boeing Alert Service Bulletin 767-32A0199 addresses deficiencies in the original design of the pivot pin; however, we do not agree that these service bulletins are unrelated and should not be combined in the same AD. Both service bulletins address failure of the same pivot pin, and therefore address the same unsafe condition, which is fracture of the MLG bogie beam pivot pin, which could lead to possible loss of the MLG truck during takeoff or landing and consequent loss of control of the airplane. We have not changed the supplemental NPRM in this regard.

Request To Allow Time-Limited Re-installations With Additional Inspections

The airplane manufacturer requests that the supplemental NPRM allow old-material pivot pins (part numbers (P/Ns) 16111145-2, -3, or -4) to be re-installed on a time-limited basis in lieu of installing the new-material pin (P/N 16111145-5), provided the old-material pin is free of cracks, corrosion, heat damage, and chrome-plate distress. The commenter proposes that the old-material pins could be used on a time-limited basis, and repetitive inspections required prior to replacement with the new-material pins.

We agree with the commenter. The airplane manufacturer was not able to supply sufficient new-material pins soon enough to satisfy the requirements proposed in the original NPRM. The commenter has assured the FAA that sufficient new-material pins will be supplied within the new replacement schedule proposed in this supplemental NPRM. The proposed additional inspections are designed to detect failure of the pin in the interim before the final terminating action of replacing the pins with new-material pins is accomplished. We have revised the supplemental NPRM to include the time-limited re-installation and the repetitive inspections.

Request To Allow Six Months for Replacement

The airplane manufacturer requests that paragraph (f)(2) of the original NPRM be revised to remove the requirement to replace suspect pins “prior to further flight.” The commenter instead requests that operators be allowed six months to accomplish the replacement, as stated in Boeing Alert Service Bulletin 767-32A0202. The commenter states that the six-month period would allow time for operators to plan for the pin replacement and to obtain the required parts while still maintaining an acceptable level of safety.

We agree with the commenter. Upon further review, we have determined that with the new repetitive inspections provided in this supplemental NPRM, a six-month replacement period provides an acceptable level of safety. We have revised the supplemental NPRM to include this change.

Request for Alternate Solutions That Have Less Cost Impact

The commenter is concerned that it will face extreme cost investments as a result of the mandatory pivot pin replacement. The commenter recommends that the FAA evaluate alternative solutions that have less cost impact for operators.

We agree that evaluating alternative solutions is important. Boeing has been evaluating many possible solutions since the fourth reported pivot pin failure in 2002 (previous failures occurred in 1991 and 1996). In 2002, in-service experience indicated the poor lubrication was the primary cause of the failure; however, some recent in-service failures show that the joint was properly lubricated. Therefore, we concluded that even with frequent lubrication, the rotating friction in the joint tends to dry the grease and produce localized heat damage on the pin. Boeing has reviewed many different options and has concluded that replacing the pin with the new-material pin is the most cost-effective and best solution. In addition, the new repetitive inspections and final replacement schedule will allow operators more time to plan for the cost of replacement.

Request To Remove Actions in Boeing Alert Service Bulletin 767-32A0202

The commenter, an airplane operator, asserts that the conditions listed in Boeing Alert Service Bulletin 767-32A0202, dated July 22, 2004, address potential documentation errors and do not constitute a safety concern that exists or is likely to exist on other airplanes of the same design. The commenter maintains that the service bulletin states that some pivot pins may have been improperly processed during manufacture, and that the service bulletin recommends that the subject pivot pins, listed by P/N and S/N, be removed and either scrapped or overhauled. The commenter further advises that the manufacturer, in a telex to airplane operators, summarized that the subject pivot pins had discrepancies during manufacture, but that the manufacturing records were not complete in terms of showing all corrective processes. The commenter points out that the manufacturer, in an additional telex to airplane operators, stated that there were no reported pivot pin failures caused by the conditions in the service bulletin, and that the pivot pins were manufactured and sent to Boeing between 1998 and 2001, and therefore have been in service for 3 to 16 [sic] years. It has been the commenter's experience that the potential manufacturing defects reported in this service bulletin (heat damage, anode burns, or cracking), which should have been found by magnetic particle inspection or nital etch, typically result in a rapid failure of the part, usually in less than 6 months. The commenter points out that a telex from the manufacturer stated that Boeing concurs that many of these types of defects would result in early failure of the parts. The expectation of early failure, and the lack of failure of any pivot pin listed in the service bulletin leads the commenter to conclude that the “problem” addressed in the service bulletin is poor recordkeeping rather than poor quality pivot pins. The commenter asserts that the fact that failures would be expected rapidly, in combination with no failures in this group of pivot pins during the last 16 [sic] years, supports its position that the conditions in the service bulletin address potential documentation errors rather than a safety concern.

We infer that the commenter is requesting that we remove the actions in Boeing Alert Service Bulletin 767-32A0202 from the requirements of the supplemental NPRM. We disagree with the request. We recognize that to date we have not received any reports of pin failures due to this condition. However, we have received numerous reports of failures in pins manufactured properly; and considering that the pins that are the subject of Boeing Alert Service Bulletin 767-32A0202 were not manufactured appropriately and do not meet the manufacturing standards, premature fracture is likely to occur. Therefore, in the interest of air safety and the public interest, we have determined that retaining the actions of this service bulletin is necessary. We have not changed the supplemental NPRM in this regard.

Request To Review Options Other Than Pivot Pin Replacement

The commenter agrees with the FAA's desire to address pivot pin failures, but states that Boeing Alert Service Bulletin 767-32A0199, Revision 1, authorizes the use of a new pivot pin rather than giving a comprehensive summary of all possible actions that could reduce pivot pin failures. The commenter points out that a variety conditions such as runway roughness, grease type, lubrication interval, and temperature during lube visits are all known factors that can contribute to premature pivot pin failure. The commenter further states that none of these factors are addressed in this service bulletin. The commenter gives the opinion that this service bulletin is not a comprehensive discussion of the various ways to reduce premature pivot pin failure, but is only the “authorization” of one particular method; the new-material pivot pin. The commenter maintains that mandating only one possible corrective action without addressing the other causes of pivot pin damage could be misleading as to the extent of the issue, and could prove to be a costly burden for operators that do not fully address the unsafe condition. The commenter then suggests that we address several options to reduce pivot pin failures such as grease type, lubrication intervals, and temperature during lubrication intervals. The commenter states that these options are far more significant factors in addressing premature pivot pin failure than the actions in the service bulletin, and also states that by implementing these options it has avoided having had an in-service pivot pin failure. The commenter feels that there is a significant lack of data, illustrated by the fact that the service bulletin states that several operators have reported pivot pin failures, although none has resulted in loss of the main landing gear (MLG) truck. The commenter argues that this lack of data supports a decision to revisit this proposed AD with the manufacturer in order to address the entire problem at hand.

We partially agree with the commenter. We agree that the problem should be revisited, and we are issuing this supplemental NPRM as a result of this and other comments we have received. In addition, Boeing has revised service bulletin 767-32A0199, which is now at Revision 2, dated May 26, 2005. This revision of the service bulletin is cited as the appropriate source of service information for certain actions in this supplemental NPRM. Boeing revised the service bulletin because of the increased rate of pivot pin fractures since the release of Revision 1. Among other things, the service bulletin addresses lubrication intervals. We also agree that grease type, and temperature during lube visits are all known factors that can contribute to premature pivot pin failure; service experience has shown this. Although we agree that runway roughness can contribute to premature pivot pin failure, it does not affect any U.S. operator of these airplanes and is therefore not addressed in this supplemental NPRM. We disagree with removing the requirement to replace pivot pins with new pivot pins made of new material. Some of the fractured pins have shown evidence of correct grease, and no evidence of lack of lubrication. The original pin material is very sensitive to heat damage in service, even with proper maintenance; the new pin material is more robust. We also disagree that there is a significant lack of data supporting the need for this proposed action, illustrated by lack of examples of the loss of the MLG truck. As stated previously, the number of pivot pin failures has increased since the release of Revision 1 of the service bulletin. In one case, both halves of the pivot pin migrated out of the joint, and the airplane made a successful landing with the MLG truck attached only by the MLG brake rods. We have not changed the supplemental NPRM as a result of this comment, though we have reviewed other options, such as grease type and temperature during lubrication visits, and made some changes, addressed below, based on more detailed comments on similar topics from the same commenter.

Request To Mandate Use of Royco-11MS Grease and Prohibit Mixing of Grease

The same commenter requests that we consider mandating the use of Royco-11MS grease. The commenter asserts that one reason it has had no in-service pivot pin failures is due to the fact that it uses only this grease during lubrication. The commenter points out that Boeing Maintenance Tip 767-MT-32-022 discusses lubrication of critical landing gear joints, including the pivot pin, and states that this grease is desirable for highly loaded movable joints and that other grease is not adequate at these locations. The commenter explains that Royco-11MS grease includes molybdenum, which acts like roller bearings in the joint and helps retain the grease in highly loaded joints such as the pivot pin joint. In addition, the commenter emphasizes that both Boeing Alert Service Bulletins 767-32A0199 and 767-32A0202 call for lubrication with Royco-11MS grease.

The same commenter requests that we consider prohibiting the mixing of grease types during lubrication for the same reason cited above. The commenter cites Flight Standards Information Bulletin FSAW 02-02B, which discusses the severity of the concern regarding mixing grease, and provides recommendations regarding purging old grease when grease usage is changed in a specific joint. The commenter stresses that both Boeing Alert Service Bulletins 767-32A0199 and 767-32A0202 call for installation with Royco-11MS grease. The commenter argues that if an operator is currently using a grease other than Royco-11MS grease, that operator will be forced to mix grease at that location because that grease is now mandated by the AD action, or the operator will be forced to obtain an alternative method of compliance (AMOC) in order to use its standard grease. The commenter emphasizes that the supplemental NPRM should address grease in a manner that reduces the likelihood of mixing grease.

We agree with the commenter. Royco-11MS grease is the only grease currently approved by the manufacturer for this joint, for the same reasons cited by the commenter. With the frequent lubrications proposed by this supplemental NPRM, using only Royco-11MS grease, proper lubrication procedures (i.e., purging all old grease from the joint while lubricating) will ensure that old grease is purged from the joint. However, we have not changed the supplemental NPRM in this regard because the service bulletins, which are cited as the appropriate source of service information for this supplemental NPRM, already specify using this grease.

Request To Mandate Minimum Temperature During Lubrication Visits

The same commenter requests that we consider mandating minimum temperatures during lubrication visits. The commenter asserts that one reason it has had no in-service pivot pin failures is that it holds to a minimum ambient temperature during lubrication. The commenter states that certain maintenance documents recommend that operators ensure that grease application is done when temperatures are above freezing because cold grease will not flow and is therefore not likely to adequately lubricate a large joint, such as the pivot pin joint, where the grease has to travel.

We disagree with the commenter. Certain maintenance procedures are documented in the component maintenance manual and the airplane maintenance manual; among these procedures are lubrication procedures. These lubrication procedures include industry “best practices” which are ensuring that grease is dispensed into grease fittings until the used grease is visually removed and only new grease comes out. If operators follow these lubrication procedures, the grease will be applied properly. Mandating a minimum temperature will not ensure that proper lubrication has taken place. We have not changed the supplemental NPRM in this regard.

Request To Mandate Shorter Lubrication Intervals

The same commenter requests that we consider mandating shorter lubrication intervals. The commenter asserts that one reason it has had no in-service pivot pin failures is that it has an aggressive lubrication schedule. These lubrication intervals are addressed in numerous sources including the maintenance planning document (MPD). The commenter states that it lubricates the pivot pin joints with Royco-11MS grease every 125 hours, more frequently than the 1A recommendation in the MPD.

We partially agree with the commenter. We agree with mandating shorter lubrication intervals. As part of the supplemental NPRM, we are increasing the length of time (for some airplanes) that the old-material pins can remain in service. In order for the old-material pins to remain in service and still provide an acceptable level of safety, we have specified more frequent lubrication in order to minimize the risk of heat damage. Boeing's research shows that lubricating every 14 days or 50 flight cycles, whichever occurs earlier, will be more effective in preventing heat damage to the pins than the 1A interval, which is typically equivalent to 300 flight cycles. We have added a new paragraph (h) to the supplemental NPRM to account for these shorter lubrication intervals.

Request To Allow Review of Maintenance Records

Several commenters requested that we revise the supplemental NPRM to allow the option to review maintenance records to determine the P/N and S/N of the pivot pin in lieu of inspecting the pin itself as currently specified in the proposed AD. The commenters maintain records for the applicable pins installed on all aircraft. These records identify both P/Ns and S/Ns.

We agree with the commenters. Reviewing existing records of P/Ns and S/Ns is an acceptable method for identifying the pivot pin. We have revised paragraph (f) of the supplemental NPRM to include this review.

Request To Clearly Exclude Certain Pivot Pins

One commenter requests that we revise paragraph (f)(1) of the original NPRM to clearly and specifically exclude pivot pins that have a P/N and S/N that is outside the applicable range of the proposal. The commenter suggests that we include a citation of Figure 1 of Boeing Alert Service Bulletin 767-32A0202 in this paragraph in order to exclude certain pins.

We infer that the commenter finds paragraph (f)(1) to be unclear, and we agree with the requested change in order to provide the greatest clarity. We have revised paragraph (f)(1) of the supplemental NPRM to include the commenter's suggested change.

Request To Include Alternative Method for Replacing Pivot Pins

One commenter requests that we incorporate in the supplemental NPRM a more efficient, alternative method for replacing the pivot pins. The commenter makes this suggestion in order to avoid the costly purchase of numerous new-material pivot pins, and possible manufacturing shortages of these pins. The commenter feels that its suggestion would provide an acceptable level of safety. The commenter's suggested alternative method involves removing any old-material pins in accordance with Boeing CMM, Subject 32-11-30, stripping the chrome plate, and doing a magnetic particle examination of the base metal for cracks and/or discrepancies. The commenter then suggests refinishing serviceable units in accordance with Boeing CMM, Subject 32-11-30, updating the bogie beam and inner cylinder pivot pin bushing in accordance with Boeing Service Bulletin 767-32-0021, Revision 3, and assembling the pivot pin joint using only Royco 11-MS grease. The commenter then suggests identifying each of the five pivot pin joint zerk fitting locations per gear to specify using only Royco 11-MS grease, and setting the lubrication interval at the 1A intervals from the MPD.

We disagree with the commenter. The commenter did not provide any justification to show that its proposal offers an acceptable level of safety. However, under the provisions of paragraph (l) of the supplemental NPRM, if the commenter would like to submit this proposal as an AMOC with the appropriate substantiation, we will consider the proposal at that time.

Explanation of Further Changes Made to the Original NPRM

Boeing has received a Delegation Option Authorization (DOA). We have revised this supplemental NPRM to delegate the authority to approve an alternative method of compliance for any repair that would be required by this supplemental NPRM to the Authorized Representative for the Boeing DOA Organization rather than the Designated Engineering Representative (DER).

We have revised this action to clarify the appropriate procedure for notifying the principal inspector before using any approved AMOC on any airplane to which the AMOC applies.

FAA's Determination and Proposed Requirements of the Supplemental NPRM

The changes discussed above expand the scope of the original NPRM; therefore, we have determined that it is necessary to reopen the comment period to provide additional opportunity for public comment on this supplemental NPRM.

Differences Between the Supplemental NPRM and the Service Bulletins

Although Boeing Alert Service Bulletin 767-32A0199, Revision 2, specifies that operators may contact the manufacturer for certain compliance times for “Group 2 airplanes that have been operated at weights less than 353,000 pounds since pivot pin installation,” this supplemental NPRM would require operators to contact the FAA for an AMOC for new compliance times in accordance with paragraph (l) of the supplemental NPRM.

In addition, Boeing Alert Service Bulletin 767-32A0199, Revision 2, specifies that operators may contact the manufacturer for instructions on how to repair certain conditions, but this supplemental NPRM would require operators to repair those conditions in one of the following ways:

• Using a method that we approve; or

• Using data that meet the certification basis of the airplane, and that have been approved by an Authorized Representative for the Boeing Delegation Option Authorization Organization whom we have authorized to make those findings.

Boeing Alert Service Bulletin 767-32A0199, Revision 2, and Boeing Alert Service Bulletin 767-32A0202, specify compliance times relative to the date the service bulletin was issued or released; however, this supplemental NPRM would require compliance times relative to the effective date of the AD.

Boeing Alert Service Bulletin 767-32A0202 specifies that operators may do a “check” of the P/Ns and S/Ns of certain MLG bogie beam pivot pins. However, this supplemental NPRM would call this action a “general visual inspection.” We have determined that trained maintenance personnel must perform this action, whereas untrained personnel may perform a “check.” Note 1 of the supplemental NPRM describes a general visual inspection.

Costs of Compliance

There are about 857 airplanes of the affected design in the worldwide fleet. The following table provides the estimated costs for U.S. operators to comply with this supplemental NPRM.

Estimated Costs
Action | Work hours | Average labor rate per hour | Parts | Cost per airplane | Number of U.S.-registered airplanes | Fleet cost
Pin Inspection | 1 | $65 | None | $65 | 374 | $24,310.
Repetitive Lubrication | 1 | $65 | None | $65, per inspection cycle | 374 | $55,705, per lubrication cycle.
Repetitive Inspection Option 1: Length Measurement | 1 | $65 | None | $65, per ispection cycle | 374 | N/A.
Repetitive Inspection Option 2: Ultrasonic cycle Inspection | 2 | $65 | None | $130, per inspection cycle | 374 | N/A.
Repetitive Inspection Option 3: Detailed Inspection (with Pivot Pin Removed) | 14 | $65 | None | $910, per inspection cycle | 374 | N/A.
Pivot Pin Short-term Replacement (Optional), pin per pivot | 12 | $65 | $5,369, per pivot pin | $6,149, per pivot pin | 374 | N/A.
Terminating Action (Permanent Replacement) | 14 | $65 | $11,686, per pivot pin | $12,596, per pivot pin | 374 | $4,710,904.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2004-19866; Directorate Identifier 2004-NM-25-AD.

Comments Due Date

(a) The Federal Aviation Administration must receive comments on this AD action by December 5, 2005.

Affected ADs

(b) None.

Applicability

(c) This AD applies to Boeing Model 767-200, -300, and -300F series airplanes, certificated in any category; as identified in Boeing Alert Service Bulletin 767-32A0202, dated July 22, 2004, and Boeing Alert Service Bulletin 767-32A0199, Revision 2, dated May 26, 2005.

Unsafe Condition

(d) This AD was prompted by reports indicating that numerous fractures of the main landing gear (MLG) bogie beam pivot pin have been found and that some pivot pins may have had improper rework during manufacture. We are issuing this AD to prevent fracture of the MLG bogie beam pivot pin, which could lead to possible loss of the MLG truck during takeoff or landing and consequent loss of control of the airplane.

Compliance

(e) You are responsible for having the actions required by this AD performed within the compliance times specified, unless the actions have already been done.

Inspection for Part Number and Serial Number, and Short-Term Replacement

(f) Within 6 months after the effective date of this AD, do a general visual inspection of the part number (P/N) and serial number (S/N) of the MLG bogie beam pivot pin in accordance with the Accomplishment Instructions of Boeing Alert Service Bulletin 767-32A0202, dated July 22, 2004. A review of airplane maintenance records is acceptable for compliance with this paragraph if the P/N and S/N of the MLG bogie beam pivot pin can be positively determined from that review.

(1) If the S/N of the pivot pin contains the letters “MA” or “MAM,” or if the S/N of the pivot pin is not listed in Figure 1 of the service bulletin, no further action is required by this paragraph.

(2) If any pivot pin has a P/N and S/N that is listed in Figure 1 of the service bulletin, within 6 months after the effective date of this AD: Replace the pivot pin with an overhauled pin having P/N 161T1145-2, -3, or -4, that includes a chrome plate strip as part of the pin overhaul; or with a new-material pin having P/N 161T1145-5; in accordance with paragraph (j) of this AD. Replacing the pin with a new-material pin having P/N 161T1145-5 in accordance with the Accomplishment Instructions of the service bulletin, terminates the requirements of this AD for that pivot pin.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Discrepancy Reporting

(g) If any pivot pin has a P/N and S/N listed in Figure 1 of Boeing Alert Service Bulletin 767-32A0202, dated July 22, 2004, submit a report of the inspection required by paragraph (f) of this AD to the Manager, Airline Support, Boeing Commercial Airplanes, P.O. Box 3707, Seattle, Washington 98124-2207, at the applicable time specified in paragraph (g)(1) or (g)(2) of this AD. The report must include the P/N and S/N of the pivot pin, a description of any discrepancies found, the airplane serial number, and the number of landings and flight hours on the airplane. Under the provisions of the Paperwork Reduction Act of 1980 (44 U.S.C. 3501 et seq.), the Office of Management and Budget (OMB) has approved the information collection requirements contained in this AD and has assigned OMB Control Number 2120-0056.

(1) If the inspection was done after the effective date of this AD: Submit the report within 30 days after the inspection.

(2) If the inspection was done before the effective date of this AD: Submit the report within 30 days after the effective date of this AD.

Repetitive Lubrication

(h) Within 30 days after the effective date of this AD: Do the pivot pin special lubrication in accordance with Part 1 of the Accomplishment Instructions of Boeing Alert Service Bulletin 767-32A0199, Revision 2, including Appendix A, dated May 26, 2005. Repeat the lubrication thereafter at intervals not to exceed 14 days or 50 flight cycles, whichever occurs earlier. Doing the terminating action in paragraph (j) of this AD ends the inspection requirements of this paragraph.

Repetitive Pin Inspections

(i) Except as provided by paragraph (i)(1) and (i)(2) of this AD, at the applicable compliance time specified in paragraph 1.E., “Compliance,” of Boeing Alert Service Bulletin 767-32A0199, Revision 2, including Appendix A, dated May 26, 2005, do one of the following inspections of the installed pivot pin in accordance with the specified part of the service bulletin: Part 2—Length Measurement, Part 3—Ultrasonic Inspection, or Part 4—Detailed Inspection; and do any applicable related investigative and corrective actions before further flight. Repeat the inspection thereafter at the applicable interval specified in paragraph 1.E., “Compliance,” of the service bulletin. Doing the replacement specified in paragraph (j) of this AD ends the inspection requirements of this paragraph.

(1) Where the service bulletin specifies a compliance time based on the release date of Revision 2 of the service bulletin, this AD requires compliance based on the effective date of this AD.

(2) Where the Note at the end of Table 1 in paragraph 1.E., “Compliance,” of the service bulletin specifies to contact Boeing for a longer compliance time for “Group 2 airplanes that have been operated at weights less than 353,000 pounds since pivot pin installation”: Operators must contact the Manager, Seattle Aircraft Certification Office (ACO), FAA, for an alternative method of compliance in accordance with paragraph (l) of this AD for any requests for a longer compliance time.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Terminating Action

(j) At the applicable compliance time in paragraph (j)(1) or (j)(2) of this AD, replace any MLG bogie beam pivot pin having P/N 161T1145-2, -3, or -4, with a new, improved pivot pin having P/N 161T1145-5; and do all applicable related investigative and corrective actions before further flight; in accordance with Part 5 of the Accomplishment Instructions of Boeing Alert Service Bulletin 767-32A0199, Revision 2, including Appendix A, dated May 26, 2005. Where the Note at the end of Table 1 in paragraph 1.E., “Compliance,” of the service bulletin specifies to contact Boeing for a longer compliance time for “Group 2 airplanes that have been operated at weights less than 353,000 pounds since pivot pin installation”; operators must contact the Manager, Seattle Aircraft Certification Office (ACO), FAA, for an alternative method of compliance in accordance with paragraph (l) of this AD for any requests for a longer compliance time. Doing the replacement in accordance with this paragraph terminates the requirements of this AD for that pivot pin.

(1) For airplanes identified in the service bulletin as Group 1 airplanes: Within 96 months after the effective date of this AD.

(2) For airplanes identified in the service bulletin as Group 2 airplanes: Within 48 months after the effective date of this AD.

Actions Accomplished According to Previous Issues of Service Bulletin

(k) Replacing any pivot pin with a new, improved pivot pin having P/N 161T1145-5, before the effective date of this AD in accordance with the service bulletins identified in Table 1 of this AD is considered acceptable for compliance with the corresponding action specified in this AD.

Table 1.—Previous Issues of Service Bulletin
Boeing Alert Service Bulletin | Revision | Date
767-32A0199 | Original | April 8, 2004.
767-32A0199 | 1 | July 22, 2004.

Alternative Methods of Compliance (AMOCs)

(l)(1) The Manager, Seattle ACO, FAA, has the authority to approve AMOCs for this AD, if requested in accordance with the procedures found in 14 CFR 39.19.

(2) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

(3) Before using any AMOC approved in accordance with § 39.19 on any airplane to which the AMOC applies, notify the appropriate principal inspector in the FAA Flight Standards Certificate Holding District Office.

Issued in Renton, Washington, on November 3, 2005.
Ali Bahrami,
Manager, Transport Airplane Directorate, Aircraft Certification Service.

[FR Doc. 05-22310 Filed 11-8-05; 8:45 am]

BILLING CODE 4910-13-P